DEPARTMENT OF HEALTH AND HUMAN SERVICES

Indian Health Service

[Funding Opportunity Number: HHS-2009-IHS-OCPS-HIV-0001]

Office of Clinical and Preventive Services: National HIV Program; Announcement Type: Cooperative Agreement; Catalog of Federal Domestic Assistance Number: 93.933

DATES: Key Dates: Application Deadline Date: July 31, 2009.

Review Date: August 6, 2009.

Anticipated Start Date: August 10, 2009.

I. Funding Opportunity Description

The Indian Health Service (IHS) announces that competitive cooperative agreement applications are now being accepted by the IHS Office of Clinical and Preventive Services (OCPS) for the National Human Immunodeficiency Virus/Acquired Immunodeficiency Syndrome (HIV/AIDS) Program. This program is authorized under the Snyder Act, 25 U.S.C. 13, and the Indian Health Care Improvement Act, 25 U.S.C. 1602(a)(b)(42)(43). This program is described under 93.933 in the Catalog of Federal Domestic Assistance (CFDA). There will be only one funding cycle during Fiscal Year (FY) 2009.

Enhancement of HIV/AIDS testing activities in American Indian/Alaska Native (AI/AN) people is necessary to reduce the incidence of HIV/AIDS in those communities by increasing access to HIV related services, reducing stigma, and making testing routine. This open competition seeks to expand fiscal resources to increase the number of AI/AN with awareness of his/her HIV status. The cooperative agreements will provide routine HIV screening for adults as per 2006 Centers for Disease Control and Prevention (CDC) guidelines, and pre- and post test counseling (when appropriate).

These cooperative agreements will be used to identify best practices to enhance HIV testing, including rapid testing and/or conventional HIV antibody testing, and to provide a more focused effort to address HIV/AIDS prevention in AI/AN populations in the United States.

The nature of these projects will require collaboration to: (1) Coordinate activities with the IHS National HIV Program; and (2) submit and share non-personally identifiable (NPI) data surrounding HIV/AIDS testing, treatment and education.

These agreements are intended to encourage development of sustainable, routine HIV screening programs in Tribal health facilities that are aligned with 2006 CDC HIV screening guidelines (http://www.cdc.gov/mmwr/preview/mmwrhtml/rr5514a1.htm). Key features include streamlined consent and counseling procedures (verbal consent, opt-out), a clear HIV screening policy, identifying and implementing any necessary staff training, community awareness, and a clear follow-up protocol for HIV positive results including linkages to care. Grantees may choose to bundle HIV tests with sexually transmitted diseases (STD) screening.

Proposed activities that cover large populations and/or geographical areas that do not necessarily correspond with current IHS administrative areas are encouraged. In conducting activities to achieve the purpose of this program, the recipient will be responsible for the activities under: 1. Recipient Activities, and IHS will be responsible for conducting activities under 2. IHS Activities.

1. Recipient Activities

• Assist AI/AN communities and Tribal organizations in increasing the number of AI/ANs with awareness of his/her HIV status. The grantee will assist and facilitate reporting of HIV diagnoses to local and state public health authorities in the region as required under existing public health statutes.

• Test at least one previously-untested (not tested in the prior five years) patient for every $50.00 in cooperative agreement funds received, inclusive of all ancillary and indirect costs.

• Collaborate with national IHS programs by providing standardized, anonymous HIV surveillance data on a quarterly basis, and in identifying and documenting best practices for implementing routine HIV testing.

• Participate in the development of systems for sharing, improving, and disseminating aggregate HIV data at a national level for purposes of advocacy for AI/AN communities, Government Performance Results Act of 1993 (GPRA), Healthy People 2010/2020 and other national-level activities.

• A three page mid-year report and no more than a ten page summary annual report at the end of each project year. The report should establish the impact and outcomes of various methods of implementing routine screening tried during the funding period.

2. IHS Activities

• Provide funded organizations with ongoing consultation and technical assistance to plan, implement, and evaluate each component of the comprehensive program as described under Recipient Activities above. Consultation and technical assistance will include, but not be limited to, the following areas: (a) Interpretation of current scientific literature related epidemiology, statistics, surveillance, Healthy People 2010/2020 Objectives, and other HIV disease control activities;

(b) Design and implementation of program components (including, but not limited to, program implementation methods, surveillance, epidemiologic analysis, outbreak investigation, development of programmatic evaluation, development of disease control programs, and coordination of activities); and

(c) Overall operational planning and program management.

• Conduct visits to assess program progress and mutually resolve problems, as needed.

• Coordinate these activities with all IHS HIV activities on a national basis.

II. Award Information

Type of Award: Cooperative Agreement.

Estimated Funds Available: The total amount identified for Fiscal Year (FY) 2009 is ten awards totaling $850,000. The award is for two years in duration. The individual award received is inclusive of project evaluation and administrative support. Awards under this announcement are subject to the availability of funds.

Anticipated Number of Awards: An estimated number of ten cooperative agreements (CA) awards will be issued under the Program.

Project Period: 2 years.

Award Amount: $85,000.

Projects will be funded for annual budget periods with project periods of two years, dependent upon the scope of work. There will be yearly continuation applications required. The continuation years will be pending funding and based on the following:

• Satisfactory progress.

• Availability of funds.

• Continuing need for IHS to support the program (program priorities).

Awardees will be required to submit routine quarterly surveillance data as well as the Standard Form 424 and Progress Reports, annually and financial statements as required in the PHS Grants Policy Statement. Forms are available at the following Web site http://www.grants.gov. The progress report should provide information about changes in the program and a summary report of any evaluations. These bi-annual and annual progress reports will be closely monitored by the IHS staff to ensure that the cooperative agreement is achieving the goals of the Office of HIV/AIDS Policy (OHAP). Limitations—Only one CA project will be awarded per Tribe, Tribal organization, or intertribal consortium.

III. Eligibility Information

1. Federally recognized AI/AN Tribes, as defined under 25 U.S.C. 1603(d), Tribal Organizations, as defined under 25 U.S.C. 1603(e), or a consortium of two or more of those Tribes or Tribal organizations. Applicants other than Tribes must provide proof of non-profit status. Eligible consortiums must represent or propose to serve a population of at least 20,000 AI/AN in order to be considered eligible. An intertribal consortium or AI/AN organization is eligible to receive a cooperative agreement if it is incorporated for the primary purpose of improving AI/AN health, and it is representing of the tribes or AN villages in which it is located. Collaborations with regional IHS, CDC, State, or organizations are encouraged and proof of such collaboration must be included in the application. The following documentation is required:

• Tribal Resolution

○ A signed and dated resolution supportive of the HIV cooperative agreement proposal from the Indian Tribe(s) served by the project, or a copy of an existing Tribal resolution that encompasses the proposed activities and project type, must accompany the application.

○ Application by Tribal organizations will not require a specific Tribal resolution(s) if the current blanket Tribal resolution(s) under which they operate would encompass the proposed activities and project type.

• Non-profit organization—a copy of 501(c)(3) non-profit certificate.

2. Cost Sharing or Matching—This program does not require matching funds or cost sharing.

If the application budget exceeds $85,000, it will not be considered for review.

IV. Application and Submission Information

1. Applicant package may be found in Grants.gov (http://www.grants.gov) or at: http://www.ihs.gov/NonMedicalPrograms/gogp/gogp_funding.asp. Questions regarding the electronic application process may be directed to Michelle G. Bulls at (301) 443-6290.

2. Content and Form of Application Submission:

• Be single spaced.

• Be typewritten.

• Have consecutively numbered pages.

• Use black type not smaller than 12 characters per one inch.

• Contain a narrative that does not exceed 15 typed pages that includes the other submission requirements below. The 15 page narrative does not include the work plan, standard forms, table of contents, budget, budget justifications, narratives, and/or other appendix items.

Public Policy Requirements: All Federal-wide public policies apply to IHS grants with the exception of the Lobbying and Discrimination public policy.

3. Submission Dates and Times:

The application from each Tribal entity must be submitted electronically through Grants.gov by 12 midnight Eastern Daylight Time (EDT).

If technical challenges arise and the Tribes or Tribal entities are unable to successfully complete the electronic application process, each organization must contact Michelle G. Bulls, Grants Policy Staff (GPS) fifteen days prior to the application deadline and advise of the difficulties that they are experiencing. Each organization must obtain prior approval, in writing (e-mails are acceptable), from Ms. Bulls allowing the paper submission. If submission of a paper application is requested and approved, the original and two copies may be sent to the appropriate grants contact that is listed in Section IV.1 above. Applications not submitted through Grants.gov, without an approved waiver, may be returned to the organizations without review or consideration.

A late application will be returned to the organization without review or consideration.

4. Intergovernmental Review: Executive Order 12372 requiring intergovernmental review is not applicable to this program.

5. Funding Restrictions:

A. Pre-award costs are allowable pending prior approval from the awarding agency. However, in accordance with 45 CFR Part 74, all pre-award costs are incurred at the recipient's risk. The awarding office is under no obligation to reimburse such costs if for any reason any of the urban Indian organizations do not receive an award, or if the award to the recipient is less than anticipated.

B. The available funds are inclusive of direct and appropriate indirect costs.

C. Only one cooperative agreement will be awarded to each organization.

D. IHS will acknowledge receipt of the application by e-mail.

6. Other Submission Requirements:

Electronic Submission—Each Tribe or Tribal entity must submit through Grants.gov. However, should any technical challenges arise regarding the submission, please contact Grants.gov Customer Support at (800) 518-4726 or support@grants.gov. The Contact Center hours of operation are Monday-Friday from 7 a.m. to 9 p.m. E.D.T. If you require additional assistance please call (301) 443-6290 and identify the need for assistance regarding your Grants.gov application. Your call will be transferred to the appropriate grants staff member. Each organization must seek assistance at least fifteen days prior to the application deadline. If each organization doesn't adhere to the timelines for Central Contractor Registry (CCR), Grants.gov registration and request timely assistance with technical issues, paper application submission may not be granted.

To submit an application electronically, please use the Grants.gov Web site. Download a copy of the application package on the Grants.gov Web site, complete it offline and then upload and submit the application via the Grants.gov site. You may not e-mail an electronic copy of a grant application to IHS.

Please be reminded of the following:

• Under the new IHS application submission requirements, paper applications are not the preferred method. However, if any Tribe or Tribal entity has technical problems submitting the application on-line, please contact directly Grants.gov Customer Support at: http://www.grants.gov/CustomerSupport.

• Upon contacting Grants.gov, obtain a Grants.gov tracking number as proof of contact. The tracking number is helpful if there are technical issues that cannot be resolved and a waiver request from Grants Policy must be obtained. If any of the organizations are still unable to successfully submit the application online, please contact Michelle G. Bulls, GPS at (301) 443-6290 at least fifteen days prior to the application deadline to advise her of the difficulties you have experienced.

• If it is determined that a formal waiver is necessary, each organization must submit a request, in writing (e-mails are acceptable), to Michelle.Bulls@ihs.gov providing a justification for the need to deviate from the standard electronic submission process. Upon receipt of approval, a hard-copy application package must be downloaded from Grants.gov, and sent directly to the Division of Grants Operations (DGO), 801 Thompson Avenue, TMP, Suite 360, Rockville, MD 20852 by July 31, 2009.

• Upon entering the Grants.gov Web site, there is information available that outlines the requirements to all eligible entities regarding electronic submission of application and hours of operation. We strongly encourage that each organization does not wait until the deadline date to begin the application process as the registration process for CCR and Grants.gov could take up to fifteen working days.

• To use Grants.gov, each eligible entity must have a Data Universal Numbering System (DUNS) Number and register in the CCR. Each organization should allow a minimum of ten working days to complete CCR registration. See below on how to apply.

• Each organization must submit all documents electronically, including all information typically included on the SF-424 and all necessary assurances and certifications.

• Please use the optional attachment feature in Grants.gov to attach additional documentation that may be requested by IHS.

• Each organization must comply with any page limitation requirements described in the program announcement.

• After you electronically submit your application, you will receive an automatic acknowledgment from Grants.gov that contains a Grants.gov tracking number. The DGO will retrieve your application from Grants.gov. The DGO will notify each organization that the application has been received.

• You may access the electronic application for this program on Grants.gov.

• You may search for the downloadable application package using either the CFDA number or the Funding Opportunity Number. Both numbers are identified in the heading of this announcement.

• To receive an application package, each urban Indian organization must provide the Funding Opportunity Number: HHS-2009-IHS-OCPS-HIV-0001.

E-mail applications will not be accepted under this announcement.

DUNS Number

Applicants are required to have a DUNS number to apply for a grant or cooperative agreement from the Federal Government. The DUNS number is a nine-digit identification number, which uniquely identifies business entities. Obtaining a DUNS number is easy and there is no charge. To obtain a DUNS number, access http://www.dunandbradstreet.com or call (866) 705-5711. Interested parties may wish to obtain their DUNS number by phone to expedite the process.

Applications submitted electronically must also be registered with the CCR. A DUNS number is required before CCR registration can be completed. Many organizations may already have a DUNS number. Please use the number listed above to investigate whether or not your organization has a DUNS number. Registration with the CCR is free of charge.

Applicants may register by calling (888) 227-2423. Please review and complete the CCR Registration Worksheet located on http://www.ccr.gov.

More detailed information regarding these registration processes can be found at Grants.gov.

V. Application Review Information

1. Criteria

The instructions for preparing the application narrative also constitute the evaluation criteria for reviewing and scoring the application. Weights assigned to each section are noted in parentheses. The narrative should include all prior years of activity; information for multi-year projects should be included as an appendix (see E. “Categorical Budget and Budget Justification”) at the end of this section for more information. The narrative should be written in a manner that is clear to outside reviewers unfamiliar with prior related activities of the entity. It should be well organized, succinct, and contain all information necessary for reviewers to understand the project fully. Emphasis will be placed on measures to increase testing and ensure sustainability of testing.

A. Understanding of the Need and Necessary Capacity (15 Points)

1. Understanding of the Problem

a. Define the project target population, identify their unique characteristics, and describe the impact of HIV on the population.

b. Describe the gaps/barriers in HIV testing for the population.

c. Describe the unique cultural or sociological barriers of the target population to adequate access for the described services.

2. Facility Capability

a. Briefly describe your health facility and user population.

b. Describe your health facility's ability to conduct this initiative through:

• Linkages to treatment and care: Partnerships established to refer out of your health facility as needed for specialized treatment, care, confirmatory testing (if applicable) and counseling services.

B. Work Plan (40 Points)

• Implementation Plan

1. Identify the proposed program activities and explain how these activities will increase and sustain HIV screening.

2. Describe Policy and Procedure changes anticipated for testing implementation that include:

a. Support of CDC 2006 Revised Testing Recommendations.

b. Community awareness of new HIV testing policy.

c. Age and sex range of persons to be tested.

d. Bundling of HIV test with STDs tests.

e. Type of HIV test (rapid, conventional, Western Blot) and who will perform test (in-house, contract lab).

f. Inclusion, exclusion, or phased introduction of testing in outpatient, inpatient, acute care/emergency room, specialty clinics, community-based testing.

3. Provide a clear timeline with quarterly milestones for project implementation.

4. Describe which group(s), if any, to which you cannot, because of State regulations, offer testing with verbal consent only, in an opt-out format.

5. Describe how the program will ensure that clients receive their test results, particularly clients who test positive.

6. Describe how the program will ensure that individuals with initial HIV-positive test results will receive confirmatory tests. If you do not provide confirmatory HIV testing, you must provide a letter of intent or Memorandum of Understanding with an external laboratory documenting the process through which initial HIV-positive test results will be confirmed.

7. Describe the program strategies to linking potential seropositive patients to care.

8. Describe the program procedures for reporting seropositive patients to the appropriate State(s).

9. Describe the program quality assurance strategies.

10. Describe how the program will train, support and retain staff providing counseling and testing.

11. Describe how the program will ensure client confidentiality.

12. Describe how the program will ensure that your services are culturally sensitive and relevant.

13. Describe how the program will attempt to streamline procedures so as to reduce the overall cost per test administered.

C. Project Evaluation (20 Points)

1. Evaluation Plan

The grantee shall provide a plan for monitoring and evaluating implementation of the HIV rapid test and/or standard HIV antibody test, and to identify best practices.

2. Reporting Requirements

The following quantitative and qualitative measures shall be addressed:

• Required Quantitative Indicators (quantitative). Quarterly surveillance reports should be broken down by age and sex and contain only aggregate data, with no personal identifiers:

1. Number of tests performed and number of test refusals.

2. Number of clients learning of their serostatus for the first time via this testing initiative (unique patients, non-repeated tests). Number of clients tested for the first time in five years and meeting the programmatic definition of “previously untested.”

3. Number of reactive tests and confirmed seropositive (actual and proportion).

4. Number of clients linked to care/treatment or referrals for prevention counseling.

5. Number of individuals receiving their confirmatory test results.

• Required Qualitative Information

1. Measures in place to protect confidentiality.

2. Identify barriers to implementation as well as lessons learned for best practices to share with other Tribes or Tribal organizations.

3. Sustainability plan and measures of ongoing testing in future years, after grant money has been spent.

• Other quantitative indicators may be collected to improve clinic processes and add to information reported, however are not required reporting measures:

1. Number of clients who refused due to prior knowledge of status.

2. Number of rapid versus standard antibody test.

3. Number of false negatives and/or positives after confirmatory test.

D. Organizational Capabilities and Qualifications (10 Points)

This section outlines the broader capacity of the organization to complete the project outlined in the work plan. It includes the identification of personnel responsible for completing tasks and the chain of responsibility for successful completion of the project outlined in the work plan.

1. Describe the organizational structure.

2. Describe the ability of the organization to manage the proposed project. Include information regarding similarly sized projects in scope and financial assistance as well as other grants and projects successfully completed.

3. Describe what equipment (i.e., phone, Web sites, etc.) and facility space (i.e., office space) will be available for use during the proposed project. Include information about any equipment not currently available that will be purchased throughout the agreement.

4. List key personnel who will work on the project.

• Identify staffing plan, existing personnel and new program staff to be hired.

• In the appendix, include position descriptions and resumes for all key personnel. Position descriptions should clearly describe each position and duties indicating desired qualifications, experience, and requirements related to the proposed project and how they will be supervised. Resumes must indicate that the proposed staff member is qualified to carry out the proposed project activities and who will determine if the work of a contractor is acceptable.

• Note who will be writing the progress reports.

• If a position is to be filled, indicate that information on the proposed position description.

• If the project requires additional personnel beyond those covered by the supplemental grant, (i.e., IT support, volunteers, interviewers, etc.), note these and address how these positions will be filled and, if funds are required, the source of these funds.

• If personnel are to be only partially funded by this supplemental grant, indicate the percentage of time to be allocated to this project and identify the resources used to fund the remainder of the individual's salary.

E. Categorical Budget and Budget Justification (15 Points)

Provide a clear estimate of the project program costs and justification for expenses for the entire grant period. The budget and budget justification should be consistent with the tasks identified in the work plan. The budget focus should be on routinizing and sustaining HIV testing services as well as reducing the cost per person tested.

1. Categorical budget (Form SF 424A, Budget Information Non-Construction Programs) completing each of the budget periods requested.

2. Narrative justification for all costs, explaining why each line item is necessary or relevant to the proposed project. Include sufficient details to facilitate the determination of allowable costs.

3. Budget justification should include a brief program narrative for the second year.

4. If indirect costs are claimed, indicate and apply the current negotiated rate to the budget. Include a copy of the rate agreement in the appendix.

2. Review and Selection Process

In addition to the above criteria/requirements, the application will be considered according to the following:

A. The submission deadline: July 31, 2009.

Applications submitted in advance of or by the deadline and verified by the postmark will undergo a preliminary review to determine that:

• The applicant is eligible in accordance with this grant announcement.

• The application is not a duplication of a previously funded project.

• The application narrative, forms, and materials submitted meet the requirements of the announcement allowing the review panel to undertake an in-depth evaluation; otherwise, it may be returned.

B. The Objective Review date is August 6, 2009.

The applications that are complete, responsive, and conform to this program announcement will be reviewed for merit by the Ad Hoc Objective Review Committee (ORC) appointed by the IHS to review and make recommendations on this application. Prior to ORC review, the application will be screened to determine that programs proposed are those which the IHS has the authority to provide, either directly or through funding agreement, and that those programs are designed for the benefit of IHS beneficiaries. If an eligible entity does not meet these requirements, the application will not be reviewed. The ORC review will be conducted in accordance with the IHS Objective Review Guidelines. The application will be evaluated and rated on the basis of the evaluation criteria listed in section V. 1. The criteria are used to evaluate the quality of a proposed project and determine the likelihood of success.

3. Anticipated Announcement and Award Dates

Anticipated Award Date of August 10, 2009.

VI. Award Administration Information

1. Award Notices.

The Notice of Award (NOA) will be initiated by the DGO and will be mailed via postal mail to the Tribe or Tribal entity. The NOA will be signed by the Grants Management Officer and this is the authorizing document under which funds are dispersed. The NOA is the legally binding document and will serve as the official notification of the grant award and will reflect the amount of Federal funds awarded for the purpose of the grant, the terms and conditions of the award, the effective date of the award, and the budget/project period.

2. Administrative Requirements.

Grants are administered in accordance with the following documents:

• This Program Announcement.

• 45 CFR Part 74, “Uniform Administrative Requirements for Awards to Institutions of Higher Education, Hospitals, Other Non Profit Organizations, and Commercial Organizations.”

• Grants Policy Guidance: HHS Grants Policy Statement, January 2007.

• “Non Profit Organizations” (Title 2 Part 230).

• Audit Requirements: OMB Circular A-133, “Audits of States, Local Governments, and Non Profit Organizations.”

• 45 CFR Part 46, “Protection of Human Subjects.”

3. Indirect Costs.

This section applies to indirect costs in accordance with HHS Grants Policy Statement, Part II-27. The IHS requires applicants to have a current indirect cost rate agreement in place prior to award. The rate agreement must be prepared in accordance with the applicable cost principles and guidance as provided by the cognoscente agency or office. A current rate means the rate covering the applicable activities and the award budget period. If the current rate is not on file with the awarding office, the award shall include funds for reimbursement of indirect costs. However, the indirect costs portion will remain restricted until the current rate is provided to the DGO.

4. Reporting.

A. Progress Report. Program progress reports are required quarterly by the National HIV Program in order to satisfy quarterly reports due to the funding source at Minority AIDS Initiative (MAI). These reports (due mid-November, February, May, August) will include quantitative data as well as a brief comparison of actual accomplishments to the goals established for the period per the implementation plan, reasons for delays or milestones not attained (if applicable), and other pertinent information as required. An Assessment and Evaluation Report must be submitted within 30 days of the end of each funded year.

B. Financial Status Report. Semi-annual financial status reports must be submitted within 30 days of the end of the half year. Final financial status reports are due within 90 days of expiration of the budget period. Standard Form 269 (long form) will be used for financial reporting.

C. Participation in a minimum of two teleconferences. Teleconferences will be required semi-annually (unless further follow up is needed) for Technical Assistance to be provided and progress to be shared.

D. Site visits. Tribal sites using MAI resources should be amenable to the possibility of site visits by IHS staff administering MAI funds.

Failure to submit required reports within the time allowed may result in suspension or termination of an active agreement, withholding of additional awards for the project, or other enforcement actions such as withholding of payments or converting to the reimbursement method of payment. Continued failure to submit required reports may result in one or both of the following: (1) The imposition of special award provisions; and (2) the non-funding or non-award of other eligible projects or activities. This applies whether the delinquency is attributable to the failure of the organization or the individual responsible for preparation of the reports.

Telecommunication for the hearing impaired is available at: TTY (301) 443-6394.

VII. Agency Contacts

For program-related and general information regarding this announcement: CAPT Scott Giberson, IHS National HIV Principal Consultant, 801 Thompson Ave., Reyes Building, Suite 306, Rockville, MD 20852, (301) 443-2449 or scott.giberson@ihs.gov.

For specific grant-related and business management information: Denise Clark, Senior Grants Management Specialist, 801 Thompson Avenue, TMP, Suite 360, Rockville, MD 20852, (301) 443-5204 or denise.clark@ihs.gov.

Dated: June 26, 2009.
Yvette Roubideaux,
Director, Indian Health Service.

[FR Doc. E9-16052 Filed 7-7-09; 8:45 am]

BILLING CODE 4165-16-P